OFFICE OF PERSONNEL MANAGEMENT

Excepted Service

AGENCY: Office of Personnel Management.

ACTION: Notice.

SUMMARY: This gives notice of OPM decisions granting authority to make appointments under Schedules A, B and C in the excepted service as required by 5 CFR 6.6 and 213.103 (b).

FOR FURTHER INFORMATION CONTACT: Ms. Cathy Penn, Center for Leadership and Executive Resources Policy, Division for Strategic Human Resources Policy, 202-606-2671.

SUPPLEMENTARY INFORMATION: Appearing in the listing below are the individual authorities established under Schedule C between June 1, 2004, and June 30, 2004. Future notices will be published on the fourth Tuesday of each month, or as soon as possible thereafter. A consolidated listing of all authorities as of June 30 is published each year.

Schedule A: No Schedule A appointments for June 2004.

Schedule B: No Schedule B appointments for June 2004.

Schedule C: The following Schedule C appointments were approved for June 2004:

Section 213.3303 Executive Office of the President

Office of Management and Budget

BOGS00022 Confidential Assistant to the Executive Associate Director. Effective June 10, 2004.

BOGS60034 Confidential Assistant to the Director, Office of Federal Financial Management. Effective June 10, 2004.

Office of National Drug Control Policy

QQGS60001 Special Assistant to the Director. Effective June 18, 2004.

Presidents Commission on White House Fellowships

WHGS00013 Education Director to the Director, President's Commission on White House Fellowships. Effective June 14, 2004.

Section 213.334 Department of State

DSGS60755 Special Assistant to the Assistant Secretary, Bureau of International Narcotics and Law Enforcement. Effective June 03, 2004.

DSGS60775 Special Assistant to the Senior Advisor to the Secretary and White House Liaison. Effective June 14, 2004.

DSGS60766 Supervisory Protocol Officer (Visits) to the Deputy Chief of Protocol. Effective June 15, 2004.

DSGS60774 Special Assistant to the Coordinator. Effective June 17, 2004.

DSGS60776 Special Assistant to the Coordinator. Effective June 17, 2004.

DSGS60777 Special Assistant to the Under Secretary for Public Diplomacy and Public Affairs. Effective June 24, 2004.

Section 213.3306 Department of Defense

DDGS16807 Defense Fellow to the Special Assistant to the Secretary of Defense for White House Liaison. Effective June 3, 2004.

DDGS16816 Defense Fellow to the Special Assistant to the Secretary of Defense for White House Liaison. Effective June 3, 2004.

DDGS16811 Special Assistant to the Director, Small and Disadvantaged Business Utilities. Effective June 18, 2004.

DDGS16818 Special Assistant to the Deputy Assistant Secretary of Defense (Military Community and Family Policy). Effective June 18, 2004.

DDGS16820 Defense Fellow to the Special Assistant to the Secretary of Defense for White House Liaison. Effective June 18, 2004.

DDGS16825 Personal & Confidential Assistant to the Principal Deputy Under Secretary of Defense for Policy. Effective June 22, 2004.

Section 213.3307 Department of the Army

DWGS00079 Confidential Assistant to the Principal Deputy Assistant Secretary of the Army (Manpower and Reserve Affairs)/Deputy Assistant Secretary (Training, Readiness and Mobilization). Effective June 3, 2004.

Section 213.3310 Department of Justice

DJGS00236 Press Assistant to the Director, Office of Public Affairs. Effective June 01, 2004.

DJGS60265 Press Assistant to the Director, Office of Public Affairs. Effective June 24, 2004.

Section 213.3311 Department of Homeland Security

DMGS00235 Press Secretary for Bureau of Citizenship and Immigration to the Chief of Staff. Effective June 1, 2004.

DMGS00242 Confidential Assistant to the Director, Local Affairs. Effective June 1, 2004.

DMGS00243 Writer-Editor to the Director of Speechwriting. Effective June 1, 2004.

DMGS00244 Operations Assistant to the Special Assistant. Effective June 2, 2004.

DMGS00238 Executive Assistant to the Director, Office of Systems Engineering and Acquisition. Effective June 4, 2004.

DMGS00241 Assistant Director of Legislative Affairs for Science and Technology to the Assistant Secretary for Legislative Affairs. Effective June 7, 2004.

DMGS00246 Special Assistant to the Assistant Secretary for Information Analysis. Effective June 15, 2004.

Section 213.3313 Department of Agriculture

DAGS00717 Special Assistant to the Administrator, Food and Nutrition Service. Effective June 4, 2004.

DAGS00719 Special Assistant to the Deputy Under Secretary for Rural Economic Community Development. Effective June 7, 2004.

DAGS00715 Confidential Assistant to the Secretary of Agriculture. Effective June 14, 2004.

DAGS00720 Special Assistant to the Administrator, Rural Utilities Service. Effective June 14, 2004.

DAGS00718 Special Assistant to the Administrator, Farm Service Agency. Effective June 18, 2004.

Section 213.3314 Department of Commerce

DCGS60193 Special Assistant to the Deputy Assistant Secretary for Transportation and Machinery. Effective June 10, 2004.

Section 213.3315 Department of Labor

DLGS60055 Special Assistant to the Assistant Secretary for Public Affairs. Effective June 2, 2004.

DLGS60135 Special Assistant to the Secretary of Labor. Effective June 22, 2004.

DLGS60177 Special Assistant to the Assistant Secretary for Public Affairs. Effective June 22, 2004.

Section 213.3316 Department of Health and Human Services

DHGS60685 Special Assistant to the Deputy Assistant Secretary for Legislation (Planning & Budget). Effective June 2, 2004.

DHGS60686 Special Assistant to the Director of Medicare Outreach and Special Advisor to the Secretary. Effective June 17, 2004.

Section 213.3317 Department of Education

DBGS00329 Special Assistant to the Chief of Staff. Effective June 2, 2004.

DBGS00333 Confidential Assistant to the Senior Advisor to the Secretary. Effective June 2, 2004.

DBGS00330 Confidential Assistant to the Deputy Under Secretary for Innovation and Improvement. Effective June 4, 2004.

DBGS00334 Special Assistant to the Deputy Secretary of Education. Effective June 14, 2004.

DBGS00335 Confidential Assistant to the Deputy Secretary of Education. Effective June 14, 2004.

DBGS00336 Special Assistant to the Senior Advisor to the Secretary. Effective June 16, 2004.

DBGS00337 Confidential Assistant to the Senior Advisor to the Secretary. Effective June 25, 2004.

Section 213.3325 United States Tax Court

JCGS60042 Secretary (Confidential Assistant) to the Chief Judge. Effective June 15, 2004.

Section 213.3328 Broadcasting Board of Governors

IBGS00017 Special Assistant to the Chairman, Broadcasting Board of Governors. Effective June 25, 2004.

Section 213.3331 Department of Energy

DEGS00421 Deputy Assistant Secretary for Budget and Appropriations to the Assistant Secretary for Congressional and Intergovernmental Affairs. Effective June 3, 2004.

DEGS00422 Deputy Director of Advance to the Director, Office of Scheduling and Advance. Effective June 18, 2004.

Section 213.3332 Small Business Administration

SBGS60550 Assistant Administrator for Congressional and Legislative Affairs to the Associate Administrator for Congressional and Legislative Affairs. Effective June 2, 2004.

SBGS60060 Special Assistant to the Associate Deputy Administrator for Management and Administration. Effective June 10, 2004.

Section 213.3337 General Services Administration

GSGS60079 Senior Advisor to the Regional Administrator, Region 2, New York. Effective June 7, 2004.

GSGS00157 Chief of Staff to the Commissioner, Public Buildings Service. Effective June 24, 2004.

Section 213.3342 Export-Import Bank

BGS60054 Special Assistant to the Vice President—Operations. Effective June 18, 2004.

Section 213.3384 Department of Housing and Urban Development

DUGS60423 Staff Assistant to the Assistant Secretary for Administration. Effective June 4, 2004.

Section 213.3394 Department of Transportation

DTGS60342 Special Assistant for Scheduling and Advance to the Director for Scheduling and Advance. Effective June 4, 2004.

DTGS60317 Deputy Assistant Administrator for Government and Industry Affairs to the Assistant Administrator for Government and Industry Affairs. Effective June 10, 2004.

DTGS60369 Deputy Assistant Secretary for Governmental Affairs to the Assistant Secretary for Governmental Affairs. Effective June 16, 2004.

Section 213.3396 National Transportation Safety Board

TBGS60104 Special Assistant to a Member. Effective June 18, 2004.

Authority: 5 U.S.C. 3301 and 3302; E.O. 10577, 3 CFR 1954-1958 Comp., P.218

Office of Personnel Management.
Kay Coles James,
Director.

[FR Doc. 04-16400 Filed 7-19-04; 8:45 am]

BILLING CODE 6352-39-P